DEPARTMENT OF THE INTERIOR

Bureau of Land Management

[ID-070-1020-XQ]

Upper Snake River District Resource Advisory Council Meeting

AGENCY: Bureau of Land Management, Interior.

ACTION: Resource Advisory Council meeting locations and times.

SUMMARY: In accordance with the Federal Land Policy and Management Act and the Federal Advisory Committee Act of 1972 (FACA), 5 U.S.C., the Department of the Interior, Bureau of Land Management (BLM) council meeting of the Upper Snake River District Resource Advisory Council (RAC) will be held as indicated below. The agenda for this two-day meeting will include a training session for members on the first day, and discussions on Standards and Guides Monitoring and Phosphate Leasing on the second day. All meetings are open to the public. The public may present written or oral comments to the council. Each formal council meeting will have a time allocated for hearing public comments. The public comment period for the council meetings is listed below. Depending on the number of persons wishing to comment, and the time available, the time for individual oral comments may be limited. Individuals who plan to attend and need further information about the meetings, or need special assistance such as sign language interpretation or other reasonable accommodations should contact David Howell at the Upper Snake River District Office, 1405 Hollipark Dr., Idaho Falls, ID 83401, or telephone (208) 524-7559.

DATES AND TIMES: The next meeting will be held February 24-25, 2000 at the Best Western Hotel, 800 North Overland Avenue in Burley, Idaho. The meeting will start at 1 p.m. on February 24 for the RAC Training Session. The meeting will continue on February 25 at 8:30 a.m., with public comments scheduled from 8:40-9:10 a.m.

FOR FURTHER INFORMATION CONTACT: David Howell, Upper Snake River District, 1405 Hollipark Dr., Idaho Falls, ID 83401, (208) 524-7559.

SUPPLEMENTARY INFORMATION: The purpose of the Resource Advisory Council is to advise the Secretary of the Interior, through the BLM, on a variety of planning and management issues associated with the management of the of the public lands.

Dated: January 5, 2000.
James E. May,
District Manager.

[FR Doc. 00-1105 Filed 1-14-00; 8:45 am]

BILLING CODE 4310-GG-P